NUCLEAR REGULATORY COMMISSION

10 CFR Part 50

[NRC-2018-0291]

RIN 3150-AK23

American Society of Mechanical Engineers Code Cases and Update Frequency; Correction

AGENCY: Nuclear Regulatory Commission.

ACTION: Proposed rule; correction.

SUMMARY: The U.S. Nuclear Regulatory Commission (NRC) is correcting a proposed rule that was published in the Federal Register on March 6, 2023, regarding changes to its regulations to incorporate by reference proposed revisions of three regulatory guides, which would approve new, revised, and reaffirmed code cases published by the American Society of Mechanical Engineers. This action is necessary to make corrections in the estimated burden for the information collection.

DATES: This correction is effective March 14, 2023.

ADDRESSES: Please refer to Docket ID NRC-2018-0291 when contacting the NRC about the availability of information for this action. You may obtain publicly available information related to this action by any of the following methods:

• Federal Rulemaking Website: Go to https://www.regulations.gov and search for Docket ID NRC-2018-0291. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. eastern time (ET), Monday through Friday, except Federal holidays.

• Mail Comments for the Proposed Information Collection: FOIA, Library, and Information Collections Branch, Office of the Chief Information Officer, Mail Stop: T-6 A10M, U.S. Nuclear Regulatory Commission, Washington, DC 20555-0001 or to the OMB reviewer at: OMB Office of Information and Regulatory Affairs (3150-0011), Attn: Desk Officer for the Nuclear Regulatory Commission, 725 17th Street NW, Washington, DC 20503; email: oira_submission@omb.eop.gov.

FOR FURTHER INFORMATION CONTACT: Dennis Andrukat, Office of Nuclear Material and Safeguards, telephone: 301-415-3561, email: Dennis.Andrukat@nrc.gov and Bruce Lin, Office of Nuclear Regulatory Research, telephone: 301-415-2446, email: Bruce.Lin@nrc.gov. Both are staff of the U.S. Nuclear Regulatory Commission, Washington, DC 20555-0001.

SUPPLEMENTARY INFORMATION: The NRC may post materials related to this document, including public comments, on the Federal rulemaking website at https://www.regulations.gov under Docket ID NRC-2018-0291. In addition, the Federal rulemaking website allows members of the public to receive alerts when changes or additions occur in a docket folder. To subscribe: (1) navigate to the docket folder (NRC-2018-0291); (2) click the “Subscribe” link; and (3) enter an email address and click on the “Subscribe” link.

The NRC is announcing the following corrected language to the proposed rule published at 88 FR 13717. On page 13729, in the third column, the number of responses for the information collection is provided, “An estimate of the number of annual responses: 1.32 (0.66 reporting and 0.66 recordkeeping)” should read “An estimate of the number of annual responses: 1.66 (0.66 reporting and 1 recordkeeping)”. On page 13729, in the third column, the number of respondents for the information collection is provided, “The estimated number of annual respondents: 0.66” should read “The estimated number of annual respondents: 1”. On page 13729, in the third column, the estimate of the total number of hours is provided, “An estimate of the total number of hours needed annually to comply with the information collection requirement or request: 158.6” should read “An estimate of the total number of hours needed annually to comply with the information collection requirement or request: 162”.

Dated: March 9, 2023.
For the Nuclear Regulatory Commission.
Cindy K. Bladey,
Chief, Regulatory Analysis and Rulemaking Support Branch, Division of Rulemaking, Environmental, and Financial Support, Office of Nuclear Material Safety and Safeguards.

[FR Doc. 2023-05200 Filed 3-13-23; 8:45 am]

BILLING CODE 7590-01-P